DEPARTMENT OF ENERGY

Energy Information Administration

Agency Information Collection Activities: Proposed Collection; Comment Request

AGENCY: Energy Information Administration (EIA), Department of Energy (DOE).

ACTION: Agency information collection activities: Proposed collection; comment request.

SUMMARY: The EIA is soliciting comments on the proposed three-year extensions to the Oil and Gas Reserves Survey Forms EIA-23, EIA-23P and EIA-64A. Form titles are “Annual Survey of Domestic Oil and Gas Reserves” (EIA-23), “Oil and Gas Well Operator List Update Report” (EIA-23P) and “Annual Report of the Origin of Natural Gas Liquids Production” (EIA-64A), respectively.

DATES: Comments must be filed by July 14, 2003. If you anticipate difficulty in submitting comments within that period, contact the person listed below as soon as possible.

ADDRESSES: Send comments to Rafi Zeinalpour. To ensure receipt of the comments by the due date, submission by FAX (214-720-6155) or e-mail rafi.zeinalpour@eia.doe.gov is recommended. The mailing address is U. S. Department of Energy, Energy Information Administration, Reserves and Production Division, 1999 Bryan Street, Suite 1110, Dallas, Texas 75201-6801. Alternatively, Mr. Zeinalpour may be contacted by phone at (214) 720-6191.

FOR FURTHER INFORMATION CONTACT: Requests for additional information or copies of any forms and instructions should be directed to Rafi Zeinalpour at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

Operators of crude oil and natural gas wells are the target respondents of Forms EIA-23 and EIA-23P who should report volumes of crude oil, associated-dissolved natural gas, non-associated natural gas and lease condensate production and reserves along with revisions to previous year reports, discoveries, extensions, sales and acquisitions, and non-producing reserves for each operated field without regard to interest ownership. Individual fields are requested from large and intermediate size producers on Form EIA-23. Samples of small operators are requested to submit less detailed information on a different version of the form. The majority of small operators are not asked to report annually on Form EIA-23. The selected sample of small operators provide production and available reserves information for crude oil, natural gas and lease condensate at a State or geographic sub-division level on the Form EIA-23. Form EIA-23P is a postcard form used to collect information on possible oil and gas well operators that may be included in future EIA-23 surveys. Information obtained from Form EIA-23P is used to confirm and/or update general operator information, primarily about small companies with which no contact has been made in the last few years.

Operators of natural gas plants are the target respondents of the Form EIA-64A. The amount of natural gas processed, natural gas liquids produced, resultant shrinkage of the natural gas and natural gas used in processing are requested of all natural gas plant operators.

In response to Public Law 95-91 Section 657, estimates of U.S. oil and gas reserves are to be reported annually. This a unique estimate report that is utilized by many entities. These estimates are essential to the development, implementation, and evaluation of energy policy and legislation. Data are used directly in the EIA annual publication, U.S. Crude Oil, Natural Gas and Natural Gas Liquids Reserves, and are incorporated in a number of other publications and analyses. Secondary publications, which use the data, include EIA's Annual Energy Review, Annual Energy Outlook, Petroleum Supply Annual and Natural Gas Annual.

II. Current Actions

This notice is for a proposed three-year extension of Form EIA-23, “Annual Survey of Domestic Oil and Gas Reserves”, Form EIA-23P, “Oil and Gas Well Operator List Update Report”, and Form EIA-64A, “Annual Report of the Origin of Natural Gas Liquids Production.”

Form EIA-23P will be extended without modification. Currently available reliable State and other sources will be used to confirm and/or update operator information thereby reducing the number of Form EIA-23P mail-outs and thus the burden on respondents.

Form EIA-64A will also be extended without modification. Maintaining the list of currently active gas plants will be aided by reliable State and other sources thereby reducing the number of needed contacts with plant operators.

Form EIA-23 will also be extended without modification. Large and intermediate operators are provided a CD-ROM of the RIGS (Reserves Information Gathering System) to aid in reducing the time needed to complete the Field Level Survey form. Field description information and ending reserves values from last years report can be maintained electronically and automatically loaded into the current survey. In addition, new field description information (State, Subdivision, County Code, Field Code, MMS Code and Field Name) is available on a drop down menu using only the field name thereby further reducing the number of potential errors and the response time of these operators. The RIGS program also has automatic error messages to aid in the accurate completion of the survey data and reducing the time needed to check the response submission for errors. In addition, the completed survey may now be submitted electronically via e-mail further reducing the handling and response time of operators.

Sampled small operators can now complete the survey using an electronic version of the Summary Survey form potentially reducing their response time. In addition, they can also submit the completed survey electronically via e-mail further reducing the handling and response time of the operators.

Many U. S. government agencies have an interest in the definitions of proved oil and gas reserves and the quality, reliability and usefulness of estimates of reserves. Among these are the Energy Information Administration (EIA), Department of Energy; Minerals Management Service (MMS), Department of Interior; Internal Revenue Service (IRS), Department of the Treasury; and the Securities and Exchange Commission (SEC). Each of these organizations has specific purposes for collecting, using, or estimating proved reserves. The EIA has a congressional mandate to provide accurate annual estimates of U.S. proved crude oil, natural gas and natural gas liquids reserves and publishes an annual reserves report to meet this requirement. The MMS is second only to the IRS in generating Federal revenue. The MMS maintains estimates of proved reserves to carry out their responsibilities in leasing, collecting royalty payments and regulating the activities of oil and gas companies on Federal lands and water. For the IRS, proved reserves and occasionally probable reserves are an essential component of calculating taxes for companies owning or producing oil and gas. The SEC requires publicly traded petroleum companies to annually file a reserves statement as part of their 10-K filing. The basic purpose of the 10-K filing is to give the investing public a clear and reliable financial basis to assess the relative value, as a financial asset, of a company's reserves, especially in comparison to other similar oil and gas companies.

Respondents should use the same methods when estimating reserves for the EIA as they do for the SEC. If there is an apparent conflict in requirements and assumptions, give precedence to the methods used for the SEC. Operators should note in the footnotes whether end of year or annual average prices were used and whether probabilistic or deterministic methods were utilized at the field level.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 4 hours for small operators, 32 hours for intermediate operators, and 160 hours for large operators on Form EIA-23. For operators reporting on Form EIA-23P, reporting burden is estimated at 15 minutes. For natural gas plant operators reporting on Form EIA-64A, the reporting burden is estimated at 6 hours. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Issued in Washington, DC, on May 7, 2003.
Nancy J. Kirkendall,
Director, Statistics and Methods Group, Energy Information Administration.

[FR Doc. 03-11886 Filed 5-12-03; 8:45 am]

BILLING CODE 6450-01-P